DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 02-032. Applicant: Thomas Jefferson University, 1020 Walnut Street, Philadelphia, PA 19107-5587. Instrument: Electron Microscope, Model Morgagni 268 Film version. Manufacturer: FEI Company, The Netherlands. Intended Use: The instrument is intended to be used in research on fixed rat brain tissue to identify interactions between endogenous opioids and corticotropin-releasing factor (CFR) that impact on a biogenic amine system which is involved in both stress and opioid actions, the locus coeruleus (LC)-norepinephrine (NE) system. Application accepted by Commissioner of Customs: July 16, 2002.

Docket Number: 02-033. Applicant: University of Vermont, Burlington, VT 05405. Instrument: High Speed CCD Camera, Model CPL MS1000. Manufacturer: Canadian Photonic Labs, Canada. Intended Use: The instrument is intended to be used to visualize high speed fluid flow in a variety of applications including: (1) Detachment of mechanisms of compound droplets from submerged needles and (2) visualize particulate flows in microchannels under videomicroscopy. The experimental objectives are to aid in the understanding of fundamental fluid mechanical mechanisms which cannot be observed with the human eye or normal video. The camera may be used for educational purposes in the following courses: (1) ME143 (Intro to Fluid Mechanics), (2) ME243 (Inviscid Flow), (3) ME249 (Computational Fluids Engineering) and (4) ME343 (Advanced Fluid Dynamics). Application accepted by Commissioner of Customs: July 30, 2002.

Docket Number: 02-034. Applicant: Alaska Department of Fish & Game, Division of Commercial Fisheries, 333 Raspberry Road, Anchorage, AK 99518. Instrument: (Two) Digital Fish Measuring Boards. Model FMB IV/64/10. Manufacturer: Limnoterra Ltd., Canada. Intended Use: The instrument is intended to be used to monitor salmon and herring populations including measuring fish weight and lengths. Growth data will be collected from discreet herring and salmon runs when they enter their spawning grounds to understand the relationships between natural cycling, environmental pressures, and fish stock overall health more completely. Application accepted by Commissioner of Customs: July 30, 2002.

Docket Number: 02-035. Applicant: West Chester University of Pennsylvania, Purchasing Office, 201 Carter Drive, Suite 200, West Chester, PA 19383. Instrument: Electron Microscope, Model Tecnai 12 TWIN. Manufacturer: FEI Company, The Netherlands. Intended Use: The instrument is intended to be used in research programs including: (1) A taxonomic investigation of bryophytes, (2) the nuclear localization of the retinol metabolizing enzyme 9-cis retinol dehydrogenase within cancerous and normal mammary tissue and (3) the visualization of the early events that occur at the gap junctions of insect ovarian follicle cells. The instrument will also be used in the following courses: (1) Research Techniques I (Comparative Microscopy, Internship, and Independent Study and (2) Field Techniques, Techniques in Mineralogy and Internship. Application accepted by Commissioner of Customs: August 1, 2002.

Gerald A. Zerdy,
Program Manager, Statutory Import Programs Staff.

[FR Doc. 02-20644 Filed 8-13-02; 8:45 am]

BILLING CODE 3510-DS-P